DEPARTMENT OF LABOR

Employment and Training Administration

[TA-W-39,281]

Honeywell, Incorporated Advanced Circuits Division Including Leased Workers of TekSystems, Minnetonka, MN; Amended Certification Regarding Eligibility to Apply for Worker Adjustment Assistance

In accordance with section 223 of the Trade Act of 1974 (19 U.S.C. 2273) the Department of Labor issued a Certification of Eligibility to Apply for Worker Adjustment Assistance on February 13, 2002, applicable to workers of Honeywell, Incorporated, Advanced Circuits Division, Minnetonka, Minnesota. The notice was published in the Federal Register on February 28, 2002 (67 FR 9327).

At the request of the petitioners, the Department reviewed the certification for workers of the subject firm. Information provided by the company shows that leased workers of TekSystems were employed at Honeywell, Incorporated, Advanced Circuits Division, were engaged in employment related to the production of multilayer printed circuit boards at the Minnetonka, Minnesota location of the subject firm.

Based on these findings, the Department is amending the certification to include leased workers of TekSystems employed at Honeywell, Incorporated, Advanced Circuits Division, Minnetonka, Minnesota.

The intent of the Department's certification is to include all workers of Honeywell, Incorporated, Advanced Circuits Division, who were adversely affected by increased imports.

The amended notice applicable to TA-W-39,281 is hereby issued as follows:

All workers of Honeywell, Incorporated, Advanced Circuits Division, Minnetonka, Minnesota, and leased workers of TekSystems engaged in employment related to production of multilayer printed circuit boards working at Honeywell, Incorporated, Advanced Circuits Division, Minnetonka, Minnesota, who became totally or partially separated from employment on or after May 7, 2000, through February 13, 2004, are eligible to apply for adjustment assistance under Section 223 of the Trade Act of 1974.

Signed at Washington, DC, this 9th day of July 2003.
Linda G. Poole,
Certifying Officer, Division of Trade Adjustment Assistance.

[FR Doc. 03-18828 Filed 7-23-03; 8:45 am]

BILLING CODE 4510-30-P